DEPARTMENT OF THE INTERIOR

Bureau of Reclamation

Mendota Pool Bypass and Reach 2B Improvements Project Under the San Joaquin River Restoration Program, Fresno and Madera Counties, CA

AGENCY: Bureau of Reclamation, Interior.

ACTION: Notice of intent to prepare an Environmental Impact Statement/Environmental Impact Report (EIS/EIR) and Notice of Scoping Meetings.

SUMMARY: The Bureau of Reclamation (Reclamation) and the California Department of Water Resources (DWR) are proposing to prepare a joint EIS/EIR, pursuant to the National Environmental Policy Act (NEPA) and the California Environmental Quality Act (CEQA), to evaluate effects of the proposed Mendota Pool Bypass and Reach 2B Channel Improvements Project (Proposed Action) under the San Joaquin River Restoration Program (SJRRP or Program). The Proposed Action includes the construction, operation, and maintenance of the Mendota Pool Bypass and improvements, including the operation and maintenance of the San Joaquin River channel to allow Reach 2B to convey at least 4,500 cubic feet per second (cfs). The purpose of the proposed action is to improve Reach 2B conveyance conditions enough to provide a capacity of at least 4,500 cfs with integrated floodplain habitat, and to convey restoration flows of at least 4,500 cfs around Mendota Pool from Reach 2B downstream to Reach 3. The planning and environmental review for the Proposed Action is authorized under section 3406(c)(1) of the Central Valley Project Improvement Act (CVPIA) Title 34, (Pub. L. 102-575) and the San Joaquin River Restoration Act (SJRRA), included in Public Law 111-11. Construction of the Proposed Action is authorized under the SJRRA (Pub. L. 111-11). The Proposed Action is a component of the San Joaquin River Settlement.

Scoping meetings will be held to solicit input on alternatives, concerns, and issues to be addressed in the EIS/EIR. Written comments may also be sent.

DATES: Two scoping meetings will be held to solicit comments from interested parties to assist in determining the scope of the environmental analysis, including the alternatives to be addressed, and to identify the significant environmental issues related to the Proposed Action. The scoping meeting dates and locations are:

• Tuesday, July 28, 2009, 6 p.m.-8 p.m., Piccadilly Inn-Shaw, 2305 West Shaw Avenue, Fresno, California 93711; and

• Wednesday, July 29, 2009, 6 p.m.-8 p.m., Firebaugh City Council Chambers, 1659 13th Street, Firebaugh, California 96322.

Written comments on the scope of the EIS/EIR should be sent by August 17, 2009 to Ms. Margaret Gidding, Bureau of Reclamation, 2800 Cottage Way MP-170, Sacramento, CA 95825 or via e-mail at MendotaPoolBypass@restoresjr.net.

FOR FURTHER INFORMATION CONTACT: Ms. Margaret Gidding at the above address, by telephone at 916-978-5461, TDD 916-978-5608 or via fax at 916-978-5469. Additional information is available online at http://www.restoresjr.net. If special assistance is required at the scoping meetings, please contact Ms. Margaret Gidding at the above phone or fax numbers or via e-mail at MendotaPoolBypass@restoresjr.net no less than ten working days prior to the meetings.

SUPPLEMENTARY INFORMATION: Reclamation and DWR are proposing to prepare a joint EIS/EIR, pursuant to NEPA and CEQA, to evaluate the proposed Mendota Pool Bypass and Reach 2B Channel Improvements Project (Proposed Action) under the SJRRP. The Proposed Action includes the construction, operation, and maintenance of the Mendota Pool Bypass and improvements, including the operation and maintenance of the San Joaquin River channel to allow Reach 2B to convey at least 4,500 cfs. The planning and environmental review for the Proposed Action is authorized under section 3406(c)(1) of the CVPIA and the SJRRA included in Public Law 111-11. Construction of the Proposed Action is authorized under the SJRRA (Pub. L. 111-11). The Proposed Action is a component of San Joaquin River Settlement.

The Proposed Action would include a bypass around the Mendota Pool to convey at least 4,500 cfs around the Mendota Pool and re-connect with the San Joaquin River downstream of Mendota Dam. The Proposed Action would also include constructing a bifurcation structure at the upper end of the bypass to convey at least 4,500 cfs into the Mendota Pool Bypass. The proposed Mendota Bypass Bifurcation Structure would be designed to divert water from the San Joaquin River to the Mendota Pool, consistent with the design channel capacity of Reach 2B which conveys flows to the Mendota Pool. The bifurcation structure would be designed to direct fish into the bypass channel and minimize or avoid fish passage into the Mendota Pool. Specific bypass alignments and facilities locations will be determined through the course of this site-specific study.

Reach 2B of the San Joaquin River extends from the Chowchilla Bypass Bifurcation Structure to the Mendota Dam. Proposed improvements to Reach 2B would include modifications to the San Joaquin River channel from the Chowchilla Bypass Bifurcation Structure to the new Mendota Bypass Bifurcation Structure to provide a capacity of at least 4,500 cfs with integrated floodplain habitat. The project would expand the Reach 2B channel capacity while accounting for new floodplain habitat. Specific channel modification actions would be determined through the course of this site-specific study. These actions would consider fisheries requirements, land uses, subsurface conditions, topography, and the condition of existing levees.

San Joaquin River Restoration Program

In 1988, a coalition of environmental groups led by the Natural Resources Defense Council (NRDC) filed a lawsuit challenging the renewal of the long-term water service contracts between the United States and the Central Valley Project Friant Division Contractors. After more than 18 years of litigation known as NRDC, et al. v. Kirk Rodgers, et al., the NRDC, Friant Water Users Authority, and the Departments of the Interior and Commerce (Settling Parties) reached agreement on the terms and conditions of the San Joaquin River Settlement (Settlement) which was subsequently approved by the Court on October 23, 2006. The Settlement can be found online at http://www.restoresjr.net.

The Settlement Is Based on Two Parallel Goals

• The Restoration Goal—To restore and maintain fish populations in “good condition” in the main stem of the San Joaquin River below Friant Dam to the confluence of the Merced River, including naturally reproducing and self-sustaining populations of salmon and other fish; and

• The Water Management Goal—To reduce or avoid adverse water supply impacts to all of the Friant Division long-term Contractors that may result from the Interim Flows and Restoration Flows provided for in the Settlement.

The Settling Parties acknowledge that accomplishing the Goals requires planning, implementation, and funding of certain activities, such as environmental review, design, and construction. With regard to the Restoration Goal, the Settlement calls for a combination of channel and structural improvements along the San Joaquin River below Friant Dam, releases of additional water from Friant Dam to the confluence of the Merced River, and the reintroduction of spring and/or fall-run Chinook salmon.

The Settlement states that the Secretary of the Interior shall implement the terms and conditions of the Settlement. Additionally, the Settling Parties agreed that implementation of the Settlement shall also require participation of the State of California. Therefore, concurrent with the execution of the Settlement, the Settling Parties entered into a Memorandum of Understanding with the State of California, by and through the California Resources Agency, DWR, the Department of Fish and Game (DFG), and the California Environmental Protection Agency (CalEPA), regarding the State's role in the implementation of the Settlement. The program established to implement the Settlement is the SJRRP, and the “Implementing Agencies” responsible for the management of the SJRRP include Reclamation, the U.S. Fish and Wildlife Service (USFWS), the National Marine Fisheries Service (NMFS), DWR, and DFG. The Federal Implementing agencies (Reclamation, USFWS and NMFS) are authorized to implement the Settlement under the SJRRA included in Public Law 111-11.

A Program Environmental Impact Statement/Environmental Impact Report (PEIS/EIR) is currently being developed for implementation of the SJRRP. If applicable, the EIS/EIR for the Proposed Action will supplement, tier from, incorporate by reference, or adopt relevant NEPA analyses from the PEIS/EIR. The Record of Decision for the PEIS/EIR is anticipated to be signed in 2010.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: July 2, 2009.
Anastasia T. Leigh,
Acting Regional Environmental Officer, Mid-Pacific Region.

[FR Doc. E9-16462 Filed 7-10-09; 8:45 am]

BILLING CODE 4310-MN-P